DEPARTMENT OF COMMERCE

Foreign-Trade Zones Board

[B-85-2012]

Foreign-Trade Zone 171—Liberty County, TX; Application for Reorganization/Expansion Under Alternative Site Framework

An application has been submitted to the Foreign-Trade Zones (FTZ) Board (the Board) by the Liberty County Economic Development Corporation, grantee of FTZ 171, requesting authority to reorganize and expand the zone under the alternative site framework (ASF) adopted by the Board (15 CFR Sec. 400.2(c)). The ASF is an option for grantees for the establishment or reorganization of zones and can permit significantly greater flexibility in the designation of new subzones or “usage-driven” FTZ sites for operators/users located within a grantee's “service area” in the context of the Board's standard 2,000-acre activation limit for a zone. The application was submitted pursuant to the Foreign-Trade Zones Act, as amended (19 U.S.C. 81a-81u), and the regulations of the Board (15 CFR part 400). It was formally docketed on November 15, 2012.

FTZ 171 was approved by the Board on January 4, 1991 (Board Order 501, 56 FR 1166, 1/1/91), and expanded on August 9, 1999 (Board Order 1049, 64 FR 46181, 8/24/99), on April 15, 2002 (Board Order 1225, 67 FR 20087, 4/24/02), and on July 22, 2004 (Board Order 1343, 69 FR 45673-45674, 7/30/04). The current zone includes the following sites: Site 1 (150 acres)—City of Cleveland's International Industrial Park on Highway FM 2025 west of U.S. Highway 59, Cleveland; Site 2 (45 acres)—Port of Liberty County Industrial Park located on Trinity River, Liberty; Site 3 (27 acres)—Port of Liberty County Industrial Park located on the Trinity River some 2 miles south of U.S. Highway 90, Liberty; Site 4 (24 acres)—within the Cleveland Municipal Airport facility, Highway FM 787, Liberty; Site 5 (583.081 acres)—Sjolander Plastics Storage Railyard facility, adjacent to Highway 146, approximately 2 miles south of Dayton; Site 6 (200 acres, 3 parcels)—within the western portion of the 15,000-acre Cedar Crossing Industrial Park, located between West Bay Road and FM 1405, Baytown; Site 7 (199.55 acres)—75 South Industrial Park, adjacent to Highway 75 and Interstate 45, Huntsville (Walker County); Site 8 (103.15 acres)—75 North Industrial Park, adjacent to Highway 75 and Interstate 45, Huntsville (Walker County); and, Site 9 (2.77 acres)—M&M Designs Industrial Park, 1981 Quality Boulevard, Hunstville (Walker County).

The grantee's proposed service area under the ASF would be the Counties of Liberty and Chambers, Texas, as described in the application. If approved, the grantee would be able to serve sites throughout the service area based on companies' needs for FTZ designation. The proposed service area is within and adjacent to the Houston Customs and Border Protection port of entry. The grantee proposes to retain its existing sites located in Walker County.

The applicant is requesting authority to reorganize its existing zone project to include existing Sites 4, 5, 6, 7 and 8 as “magnet” sites. The applicant is also requesting approval of a new magnet site: Proposed Site 10 (745.959 acres)—AmeriPort Industrial Park located at South FM 565 between FM 1405 and Grand Parkway 99 in Baytown (Chambers County). The applicant is also requesting that Sites 1, 2, 3 and 9 be removed from the zone.

In accordance with the Board's regulations, Camille Evans of the FTZ Staff is designated examiner to evaluate and analyze the facts and information presented in the application and case record and to report findings and recommendations to the Board.

Public comment is invited from interested parties. Submissions shall be addressed to the Board's Executive Secretary at the address below. The closing period for their receipt is January 22, 2013. Rebuttal comments in response to material submitted during the foregoing period may be submitted during the subsequent 15-day period to February 4, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: November 15, 2012.
Andrew McGilvray,
Executive Secretary.

[FR Doc. 2012-28318 Filed 11-20-12; 8:45 am]

BILLING CODE P